DEPARTMENT OF THE TREASURY

Submission for OMB Review; Comment Request

March 29, 2010.

The Department of Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before June 4, 2010 to be assured of consideration.

HR Connect

OMB Number: 1505-XXXX.

Type of Review: New Collection.

Title: Voluntary Survey—Application Website Content and Usability.

Description: Information will be collected on a voluntary basis from new Treasury hires for the purpose of assessing the content and usability of the application Web site.

Respondents: Individuals.

Estimated Total Reporting Burden: 50 hours.

Agency Contact: Gladys Wiggins, (202) 622-3685, Room 13483, 1750 Pennsylvania Avenue, Washington, DC 20220.

Robert Dahl,
Treasury PRA Clearance Officer.

[FR Doc. 2010-7542 Filed 4-2-10; 8:45 am]

BILLING CODE 4810-25-P